DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Associate Director for Global Targeting, tel.: 202-622-2420; Assistant Director for Licensing, tel.: 202-622-2480; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (http://www.treasury.gov/ofac).

Notice of OFAC Actions

On July 25, 2018, OFAC determined that the property and interests in property subject to U.S. jurisdiction of the following persons are blocked under the relevant sanctions authorities listed below.

Individuals

1. AJAKA, Tony (a.k.a. AJAKA, Antoine); DOB 14 Mar 1968; nationality Lebanon (individual) [NPWMD] (Linked To: KATRANGI, Amir).

Designated pursuant to section 1(a)(iii) of Executive Order 13382 of June 28, 2005, “Blocking Property of Weapons of Mass Destruction Proliferators and Their Supporters” (E.O. 13382) for having provided, or attempted to provide, financial, material, technological or other support for, or goods or services in support of, Amir KATRANGI, a person whose property and interests in property are blocked pursuant to E.O. 13382.

2. BEURKLIAN, Anni (a.k.a. AJAKA, Anni); DOB 17 May 1969; nationality Lebanon; citizen United States (individual) [NPWMD] (Linked To: KATRANGI, Amir).

Designated pursuant to section 1(a)(iii) of E.O. 13382 for having provided, or attempted to provide, financial, material, technological or other support for, or goods or services in support of, Amir KATRANGI, a person whose property and interests in property are blocked pursuant to E.O. 13382.

3. CHAHINE, Mireille; DOB 01 Mar 1983; POB Beirut, Lebanon; nationality Lebanon; Employee and Accountant at Electronic Katrangi Group (individual) [NPWMD] (Linked To: ELECTRONICS KATRANGI TRADING).

Designated pursuant to section 1(a)(iv) of E.O. 13382 for acting or purporting to act for or on behalf of, directly or indirectly, ELECTRONICS KATRANGI TRADING, a person whose property and interests in property are blocked pursuant to E.O. 13382.

4. KATRANGI, Amir (a.k.a. ALKANTRANJI, Amir Hachem; a.k.a. KANTRAJI, Amir Hachem; a.k.a. KATRA, Amir; a.k.a. KATRANGI, Amir Hachem; a.k.a. KATRANJI, Amir; a.k.a. KATRANJI, Amir Hachem; a.k.a. KATRANJI, Amir Hashem); DOB 24 Jun 1966; POB Hama, Syria; nationality Syria; Managing Director and Co-founder of Electronic Katrangi Group (individual) [NPWMD] (Linked To: ELECTRONICS KATRANGI TRADING).

Designated pursuant to section 1(a)(iv) of E.O. 13382 for acting or purporting to act for or on behalf of, directly or indirectly, ELECTRONICS KATRANGI TRADING, a person whose property and interests in property are blocked pursuant to E.O. 13382.

5. KATRANGI, Houssam Hachem (a.k.a. EL KATRANGI, Houssam Hachem; a.k.a. EL KATRANJI, Houssam Hachem; a.k.a. KATRANGI, Houssam Hachem; a.k.a. KATRANGI, Hussam; a.k.a. KATRANJI, Houssam Hachem; a.k.a. KATRANKI, Houssam Hashem; a.k.a. QATRANJI, Hussam), Khansa Jnah, Beirut, Lebanon; DOB 27 Nov 1973; POB Ramlet El Baida, Lebanon; nationality Lebanon; Co-founder and Associate of Electronic Katrangi Group (individual) [NPWMD] (Linked To: ELECTRONICS KATRANGI TRADING).

Designated pursuant to section 1(a)(iv) of E.O. 13382 for acting or purporting to act for or on behalf of, directly or indirectly, ELECTRONICS KATRANGI TRADING, a person whose property and interests in property are blocked pursuant to E.O. 13382.

6. KATRANGI, Maher (a.k.a. EL KATRANGI, Maher Hachem; a.k.a. EL KATRANJI, Maher Hachem; a.k.a. KATRANGI, Maher Hachem; a.k.a. KATRANGI, Maher Mohamad; a.k.a. KATRANJI, Maher Hachem; a.k.a. KATRANJI, Maher Hashem), Khansa Jnah, Beirut, Lebanon; DOB 06 Jul 1967; POB Hama, Syria; nationality Syria; Co-founder and Associate of Electronic Katrangi Group (individual) [NPWMD] (Linked To: ELECTRONICS KATRANGI TRADING).

Designated pursuant to section 1(a)(iv) of E.O. 13382 for acting or purporting to act for or on behalf of, directly or indirectly, ELECTRONICS KATRANGI TRADING, a person whose property and interests in property are blocked pursuant to E.O. 13382.

7. KATRANGI, Mohamad (a.k.a. ALKTRANJI, Mohammed; a.k.a. KATRANJI, Mohammed); DOB 1928 (individual) [NPWMD] (Linked To: ELECTRONICS KATRANGI TRADING).

Designated pursuant to section 1(a)(iv) of E.O. 13382 for acting or purporting to act for or on behalf of, directly or indirectly, ELECTRONICS KATRANGI TRADING, a person whose property and interests in property are blocked pursuant to E.O. 13382.

8. ZHOU, Yishan; DOB 08 Dec 1981; POB Guangdong, China; nationality China; Director, EKT Smart Technology (individual) [NPWMD] (Linked To: EKT SMART TECHNOLOGY).

Designated pursuant to section 1(a)(iv) of E.O. 13382 for acting or purporting to act for or on behalf of, directly or indirectly, EKT SMART TECHNOLOGY, a person whose property and interests in property are blocked pursuant to E.O. 13382.

Entities

1. EKT SMART TECHNOLOGY, 38 Dongtang Jinguang South Road, Xiashan Street, Chaonan District, Guangdong to Shantou, China; Chase Business Centre, 39-41 Chase Side, London N14 5BP, United Kingdom; Company Number 08884792 (United Kingdom) [NPWMD] (Linked To: ELECTRONICS KATRANGI TRADING).

Designated pursuant to section 1(a)(iv) of E.O. 13382 for acting or purporting to act for or on behalf of, directly or indirectly, ELECTRONICS KATRANGI TRADING, a person whose property and interests in property are blocked pursuant to E.O. 13382.

2. ELECTRONICS KATRANGI TRADING (a.k.a. AL AMIR ELECTRONICS; a.k.a. ALAMIR ELECTRONICS; a.k.a. AL-AMIR ELECTRONICS; a.k.a. AMIRCO ELECTRONICS; a.k.a. E.K.T. (KATRANGI BROS.); a.k.a. EKT (KATRANGI BROS); a.k.a. EKT ELECTRONICS; a.k.a. EKT KATRANGI BROTHERS; a.k.a. ELECTRONIC KATRANGI GROUP; a.k.a. KATRANGI ELECTRONICS; a.k.a. KATRANGI FOR ELECTRONICS INDUSTRIES; a.k.a. KATRANGI TRADING; a.k.a. KATRANJI LABS; a.k.a. LUMIERE ELYSEES (Latin: LUMIÈRE ELYSÉES); a.k.a. NKTRONICS; a.k.a. SMART GREEN POWER; a.k.a. SMART PEGASUS; a.k.a. “E.K.T.”; a.k.a. “EKT”; a.k.a. “ELECTRONIC SYSTEM GROUP”; a.k.a. “ESG”), 1st Floor, Hujij Building, Korniche Street, P.O. Box 817 No. 3, Beirut, Lebanon; P.O. Box 8173, Beirut, Lebanon; #1 fl., Grand Hills Bldg., Said Khansa St., Jnah (BHV), Beirut, Lebanon; 11/A, Abbasieh Building, Hijaz Street, Damascus, Syria; Lahlah Building, Industrial Zone, Hama, Syria; Awqaf Building, Naser Street, P.O. Box 34425, Damascus, Syria; #1 floor, 02/A, Fares Building, Rami Street, Margeh, Damascus, Syria; 46 El-Falaki Street, Facing Cook Door, BabLouk Area, Cairo, Egypt; website www.ekt2.com; alt. Website www.katranji.com; alt. Website http://sgp-france.com; alt. Website http://lumiere-elysees.fr; Identification Number 808 195 689 00019 (France); Chamber of Commerce Number 2014 B 24978 (France) [NPWMD] (Linked To: SCIENTIFIC STUDIES AND RESEARCH CENTER).

Designated pursuant to section 1(a)(iii) of E.O. 13382 for having provided, or attempted to provide, financial, material, technological or other support for, or goods or services in support of, the SCIENTIFIC STUDIES AND RESEARCH CENTER, a person whose property and interests in property are blocked pursuant to E.O. 13382.

3. GOLDEN STAR CO (a.k.a. GOLDEN STAR INTERNATIONAL FREIGHT LIMITED; a.k.a. GOLDEN STAR TRADING & INTERNATIONAL FREIGHT; a.k.a. GOLDEN STAR TRADING AND INTERNATIONAL FREIGHT; a.k.a. GOLDEN STAR TRADING INTERNATIONAL FREIGHT; a.k.a. KASSOUMA FZC; a.k.a. SHAREKAT GOLDEN STAR; a.k.a. SMART LOGISTICS F.S.S.A.L; a.k.a. SMART LOGISTICS OFFSHORE; a.k.a. SMART LOGISTICS TRADING & INTERNATIONAL FREIGHT; a.k.a. SMART LOGISTICS TRADING AND INTERNATIONAL FREIGHT), Al Awqaf building, 5th floor, Victoria Bridge, Damascus, Syria; 2 Floor, Inana Bldg, Damascus Free Zone, Damascus, Syria; Room 707, Fulijinxi Business Center, No. 05, Fuchang Road, Haizhu District, Guangzhou, China; Al Alshiah, Mar Mekheal Church, Amicho Building, 3rd Floor, Beirut, Lebanon; Office 112, First Floor, Al Manara Building, Port Street, Beirut, Lebanon; website www.goldenstar-co.com [NPWMD] (Linked To: ELECTRONICS KATRANGI TRADING).

Designated pursuant to section 1(a)(iii) of E.O. 13382 for having provided, or attempted to provide, financial, material, technological or other support for, or goods or services in support of, ELECTRONICS KATRANGI TRADING, a person whose property and interests in property are blocked pursuant to E.O. 13382.

4. POLO TRADING, Fakhani Building, Korniche Mazraa Street, Beirut, Lebanon; Grand Hills/GF Al Khansa St., Beirut, Lebanon; website polo-trading.com [NPWMD] (Linked To: KATRANGI, Amir).

Designated pursuant to section 1(a)(iv) of E.O. 13382 for being owned or controlled by Amir KATRANGI, a person whose property and interests in property are blocked pursuant to E.O. 13382.

5. TOP TECHNOLOGIES SARL, Ground Floor, Dedeyan center, Dora highway, Metn, Bauchrieh, Lebanon [NPWMD] (Linked To: AJAKA, Tony).

Designated pursuant to section 1(a)(iv) of E.O. 13382 for being owned or controlled by Antoine AJAKA, a person whose property and interests in property are blocked pursuant to E.O. 13382.

Dated: July 25, 2018.
Andrea M. Gacki,
Acting Director, Office of Foreign Assets Control.

[FR Doc. 2018-16906 Filed 8-7-18; 8:45 am]

BILLING CODE 4810-AL-P